DEPARTMENT OF TRANSPORTATION

Federal Railroad Administration

[Docket Number FRA-2015-0116]

Petition for Modification of Special Approval for Designation of Repair Locations

In accordance with part 232 of Title 49 Code of Federal Regulations (CFR), this document provides the public notice that by a document dated June 3, 2015, BNSF Railway Company (BNSF) has petitioned the Federal Railroad Administration (FRA) for a modification to its plan designating locations where brake system repairs will be performed, as prescribed in 49 CFR 232.17(b). FRA assigned the petition Docket Number FRA-2015-0116.

BNSF stated that to appropriately handle freight cars with air brake systems or components that became defective en route, BNSF created and currently maintains a list of specific locations across its system that are defined as the “nearest location where the needed repairs can be effectuated” per 49 CFR 232.15(f). The list was last updated several years ago, and, due to changes in accessibility, infrastructure, staffing, and safety, BNSF has proposed modest changes to the current list of locations.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. If any interested party desires an opportunity for oral comment, they should notify FRA, in writing, before the end of the comment period and specify the basis for their request.

While 49 CFR 232.17(f) specifies that comments should be submitted to FRA's Associate Administrator for Railroad Safety and Chief Safety Officer, and that a copy of the comment be served on each petitioner, this regulation predates the establishment of the Federal government's public regulatory Web site and the existing electronic petition and comment submittal options.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 9, 2015 will be considered by FRA before final action is taken. Pursuant to 49 CFR 232.17(g), if no comment objecting to the requested modification is received during the 30-day comment period, and if FRA finds that the petition complies with the requirements of 49 CFR 232.17 and that the proposed plan under 49 CFR 232.15(g) is acceptable and justified, the petition will be granted. If granted, the petition will become effective by February 8, 2016.

Anyone is able to search the electronic form of any written communications and comments received into any of our dockets by the name of the individual submitting the comment (or signing the comment, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on Monday, October 26, 2015.
Ron Hynes,
Director, Office of Technical Oversight.

[FR Doc. 2015-28364 Filed 11-6-15; 8:45 am]

BILLING CODE 4910-06-P